NUCLEAR REGULATORY COMMISSION

[Docket No. 50-289]

AmerGen Energy Company, LLC; Notice of Withdrawal of Application for Amendment to Facility Operating License

The U.S. Nuclear Regulatory Commission (the Commission) has granted the request of AmerGen Energy Company, LLC (the licensee), to withdraw its August 9, 2000, application for proposed amendment to Facility Operating License No. DPR-50 for the Three Mile Island Nuclear Station, Unit 1, located in Dauphin County, Pennsylvania.

The proposed amendment would have revised the Technical Specifications related to the independent onsite safety review group to indicate that these functions would now be performed by nuclear quality assurance personnel. This request was superceded in its entirety by the licensee's application dated August 14, 2001.

The Commission had previously issued a Notice of Consideration of Issuance of Amendment published in the Federal Register on October 18, 2000 (65 FR 62381). However, by letter dated August 14, 2001, the licensee superceded its previous submittal in its entirety and withdrew the proposed change.

For further details with respect to this action, see the application for amendment dated August 9, 2000, and the licensee's letter dated August 14, 2001, which superceded in its entirety and withdrew the previous application for license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index/html. If you do not have access to ADAMS or if there are problems in accessing the documents located in ADAMS, contact the NRC Public Document Room (PDR) Reference staff at 1-800-397-4209, 301-415-4737 or by email to pdr@nrc.gov.

Dated at Rockville, Maryland, this 27th day of September 2001.
For The Nuclear Regulatory Commission.
Timothy G. Colburn,
Senior Project Manager, Section 1, Project Directorate I, Division of Licensing Project Management Office of Nuclear Reactor Regulation.

[FR Doc. 01-24868 Filed 10-3-01; 8:45 am]

BILLING CODE 7590-01-P